DEPARTMENT OF ENERGY

Federal Energy Regulatory Commission

Combined Notice of Filings #1

Take notice that the Commission received the following exempt wholesale generator filings:

Docket Numbers: EG25-252-000.

Applicants: Century Oaks Energy Storage, LLC.

Description: Century Oaks Energy Storage, LLC submits Notice of Self-Certification of Exempt Wholesale Generator Status.

Filed Date: 3/28/25.

Accession Number: 20250328-5064.

Comment Date: 5 p.m. ET 4/18/25.

Docket Numbers: EG25-253-000.

Applicants: Weirs Creek Solar, LLC.

Description: Weirs Creek Solar, LLC submits Notice of Self-Certification of Exempt Wholesale Generator Status.

Filed Date: 3/28/25.

Accession Number: 20250328-5152.

Comment Date: 5 p.m. ET 4/18/25.

Docket Numbers: EG25-254-000.

Applicants: St. Landry Solar, LLC.

Description: St. Landry Solar, LLC submits Notice of Self-Certification of Exempt Wholesale Generator Status.

Filed Date: 3/28/25.

Accession Number: 20250328-5156.

Comment Date: 5 p.m. ET 4/18/25.

Docket Numbers: EG25-255-000.

Applicants: Greer Solar, LLC.

Description: Greer Solar, LLC submits Notice of Self-Certification of Exempt Wholesale Generator Status.

Filed Date: 3/28/25.

Accession Number: 20250328-5159.

Comment Date: 5 p.m. ET 4/18/25.

Docket Numbers: EG25-256-000.

Applicants: Panhandle Solar, LLC.

Description: Panhandle Solar, LLC submits Notice of Self-Certification of Exempt Wholesale Generator Status.

Filed Date: 3/28/25.

Accession Number: 20250328-5163.

Comment Date: 5 p.m. ET 4/18/25.

Docket Numbers: EG25-257-000.

Applicants: Beaver Creek Solar, LLC.

Description: Beaver Creek Solar, LLC submits Notice of Self-Certification of Exempt Wholesale Generator Status.

Filed Date: 3/28/25.

Accession Number: 20250328-5170.

Comment Date: 5 p.m. ET 4/18/25.

Docket Numbers: EG25-258-000.

Applicants: Singer Solar, LLC.

Description: Singer Solar, LLC submits Notice of Self-Certification of Exempt Wholesale Generator Status.

Filed Date: 3/28/25.

Accession Number: 20250328-5171.

Comment Date: 5 p.m. ET 4/18/25.

Docket Numbers: EG25-259-000.

Applicants: Buena Vista Energy Center III, LLC.

Description: Buena Vista Energy Center III, LLC submits Notice of Self-Certification of Exempt Wholesale Generator Status.

Filed Date: 3/28/25.

Accession Number: 20250328-5179.

Comment Date: 5 p.m. ET 4/18/25.

Docket Numbers: EG25-260-000.

Applicants: Pediment BESS I LLC.

Description: Pediment BESS I LLC submits Notice of Self-Certification of Exempt Wholesale Generator Status.

Filed Date: 3/28/25.

Accession Number: 20250328-5311.

Comment Date: 5 p.m. ET 4/18/25.

Docket Numbers: EG25-261-000.

Applicants: Alamo Clean Energy Center LLC.

Description: Alamo Clean Energy Center LLC submits Notice of Self-Certification of Exempt Wholesale Generator Status.

Filed Date: 3/28/25.

Accession Number: 20250328-5355.

Comment Date: 5 p.m. ET 4/18/25.

Docket Numbers: EG25-262-000.

Applicants: Mesquite Clean Energy Center LLC.

Description: Mesquite Clean Energy Center LLC submits Notice of Self-Certification of Exempt Wholesale Generator Status.

Filed Date: 3/28/25.

Accession Number: 20250328-5362.

Comment Date: 5 p.m. ET 4/18/25.

Take notice that the Commission received the following electric rate filings:

Docket Numbers: ER10-2739-036; ER14-1219-015; ER16-1732-014; ER17-993-013; ER20-660-010; ER18-95-010; ER10-2729-015; ER21-202-002; ER17-989-013; ER10-1892-023; ER10-1854-020; ER22-425-003; ER17-990-013; ER17-1946-013; ER17-1947-007; ER17-1948-007; ER21-1133-003; ER16-1652-023; ER11-3320-020; ER14-2548-011; ER22-1241-002; ER10-2744-021; ER16-2406-015; ER16-2405-014; ER10-1618-018; ER13-2316-018; ER17-992-013; ER10-2678-021; ER10-1631-020; ER11-3321-013; ER14-19-019; ER20-1440-006.

Applicants: Yards Creek Energy, LLC, West Deptford Energy, LLC, Wallingford Energy LLC, University Park Energy, LLC, Troy Energy, LLC, Springdale Energy, LLC, Seneca Generation, LLC, Rolling Hills Generating, L.L.C., Rockford Power II, LLC, Rockford Power, LLC, Riverside Generating Company, L.L.C., REV Energy Marketing, LLC, Ocean State Power, LSP University Park, LLC, LifeEnergy LLC, Hummel Station, LLC, Helix Ravenswood, LLC, Helix Maine Wind Development, LLC, Helix Ironwood, LLC, Gans Energy, LLC, Enerwise Global Technologies, LLC, Doswell Limited Partnership, Columbia Energy LLC, Chambersburg Energy, LLC, Centrica Business Solutions Optimize, LLC, Buchanan Generation, LLC, Buchanan Energy Services Company, LLC, Bolt Energy Marketing, LLC, Bath County Energy, LLC, Aurora Generation, LLC, Armstrong Power, LLC, LS Power Marketing, LLC.

Description: Supplement to Response to 03/26/2025, Updated Market Power Analysis for Northeast Region of LS Power Marketing, LLC, et al.

Filed Date: 3/27/25.

Accession Number: 20250327-5259.

Comment Date: 5 p.m. ET 4/17/25.

Docket Numbers: ER25-1791-000.

Applicants: Tri-State Generation and Transmission Association, Inc.

Description: 205(d) Rate Filing: Service Agreement FERC No. 930—Del Camino Tap to be effective 2/27/2025.

Filed Date: 3/27/25.

Accession Number: 20250327-5237.

Comment Date: 5 p.m. ET 4/17/25.

Docket Numbers: ER25-1792-000.

Applicants: Tri-State Generation and Transmission Association, Inc.

Description: 205(d) Rate Filing: Amendment to Rate Schedule FERC No. 27 to be effective 5/27/2025.

Filed Date: 3/27/25.

Accession Number: 20250327-5239.

Comment Date: 5 p.m. ET 4/17/25.

Docket Numbers: ER25-1793-000.

Applicants: Portland General Electric Company.

Description: Compliance filing: PGE Order No. 904 Compliance Filing to be effective 6/25/2025.

Filed Date: 3/27/25.

Accession Number: 20250327-5263.

Comment Date: 5 p.m. ET 4/17/25.

Docket Numbers: ER25-1794-000.

Applicants: Pacific Gas and Electric Company.

Description: 205(d) Rate Filing: WDT: Order 898 Formula Rate revisions to be effective 1/1/2025.

Filed Date: 3/28/25.

Accession Number: 20250328-5000.

Comment Date: 5 p.m. ET 4/18/25.

Docket Numbers: ER25-1795-000.

Applicants: NSTAR Electric Company.

Description: 205(d) Rate Filing: BXP, Inc.—Interconnection Study Agreement to be effective 3/29/2025.

Filed Date: 3/28/25.

Accession Number: 20250328-5052.

Comment Date: 5 p.m. ET 4/18/25.

Docket Numbers: ER25-1796-000.

Applicants: NSTAR Electric Company.

Description: 205(d) Rate Filing: BXP, Inc.—Interconnection Study Agreement to be effective 3/29/2025.

Filed Date: 3/28/25.

Accession Number: 20250328-5059.

Comment Date: 5 p.m. ET 4/18/25.

Docket Numbers: ER25-1797-000.

Applicants: Black Hills Colorado Electric, LLC.

Description: Compliance filing: Order No. 904 Compliance Filing to be effective 6/1/2025.

Filed Date: 3/28/25.

Accession Number: 20250328-5062.

Comment Date: 5 p.m. ET 4/18/25.

Docket Numbers: ER25-1798-000.

Applicants: Black Hills Power, Inc.

Description: Compliance filing: Order No. 904 Compliance Filing to be effective 6/1/2025.

Filed Date: 3/28/25.

Accession Number: 20250328-5068.

Comment Date: 5 p.m. ET 4/18/25.

Docket Numbers: ER25-1799-000.

Applicants: Public Service Company of New Hampshire.

Description: 205(d) Rate Filing: Granite Shore Power LLC—Interconnection Study Agreement to be effective 3/29/2025.

Filed Date: 3/28/25.

Accession Number: 20250328-5073.

Comment Date: 5 p.m. ET 4/18/25.

Docket Numbers: ER25-1800-000.

Applicants: Public Service Company of Colorado.

Description: Compliance filing: 2025-03-28 Order 904 Compliance Filing to be effective 6/26/2025.

Filed Date: 3/28/25.

Accession Number: 20250328-5091.

Comment Date: 5 p.m. ET 4/18/25.

Docket Numbers: ER25-1801-000.

Applicants: Southwest Power Pool, Inc.

Description: Compliance filing: Order No. 904 Compliance Filing to be effective N/A.

Filed Date: 3/28/25.

Accession Number: 20250328-5098.

Comment Date: 5 p.m. ET 4/18/25.

Docket Numbers: ER25-1802-000.

Applicants: Midcontinent Independent System Operator, Inc.

Description: 205(d) Rate Filing: 2025-03-28_Att X—Generator Replacement POI to be effective 5/28/2025.

Filed Date: 3/28/25.

Accession Number: 20250328-5108.

Comment Date: 5 p.m. ET 4/18/25.

Docket Numbers: ER25-1803-000.

Applicants: Cheyenne Light, Fuel and Power Company.

Description: Compliance filing: Order No. 904 Compliance Filing to be effective 6/1/2025.

Filed Date: 3/28/25.

Accession Number: 20250328-5118.

Comment Date: 5 p.m. ET 4/18/25.

Docket Numbers: ER25-1804-000.

Applicants: California Independent System Operator Corporation.

Description: Compliance filing: 2025-03-28 CAISO Compliance Filing Regarding FERC Order No. 904 to be effective N/A.

Filed Date: 3/28/25.

Accession Number: 20250328-5167.

Comment Date: 5 p.m. ET 4/18/25.

Docket Numbers: ER25-1805-000.

Applicants: UNS Electric, Inc.

Description: Compliance filing: Order 904 Compliance Filing to be effective 6/26/2025.

Filed Date: 3/28/25.

Accession Number: 20250328-5178.

Comment Date: 5 p.m. ET 4/18/25.

Docket Numbers: ER25-1806-000.

Applicants: Tucson Electric Power Company.

Description: Compliance filing: Order 904 Compliance Filing to be effective 6/26/2025.

Filed Date: 3/28/25.

Accession Number: 20250328-5188.

Comment Date: 5 p.m. ET 4/18/25.

Docket Numbers: ER25-1807-000.

Applicants: Tri-State Generation and Transmission Association, Inc.

Description: Compliance filing: Order No. 904 Compliance Filing to be effective 6/27/2025.

Filed Date: 3/28/25.

Accession Number: 20250328-5190.

Comment Date: 5 p.m. ET 4/18/25.

Docket Numbers: ER25-1808-000.

Applicants: Basin Electric Power Cooperative.

Description: 205(d) Rate Filing: Basin Electric Submission of Order No. 904 Compliance Filing to be effective 5/27/2025.

Filed Date: 3/28/25.

Accession Number: 20250328-5195.

Comment Date: 5 p.m. ET 4/18/25.

Docket Numbers: ER25-1809-000.

Applicants: PECO Energy Company.

Description: 205(d) Rate Filing: PECO submits revisions to Formula Rate, OATT Attachment H-7A to be effective 5/28/2025.

Filed Date: 3/28/25.

Accession Number: 20250328-5202.

Comment Date: 5 p.m. ET 4/18/25.

Docket Numbers: ER25-1810-000.

Applicants: Duke Energy Carolinas, LLC.

Description: 205(d) Rate Filing: DEC-Rutherford Revised NITSA SA No. 369 to be effective 4/1/2025.

Filed Date: 3/28/25.

Accession Number: 20250328-5204.

Comment Date: 5 p.m. ET 4/18/25.

Docket Numbers: ER25-1811-000.

Applicants: PJM Interconnection, L.L.C.

Description: 205(d) Rate Filing: Revisions to Schedule 12-Appendix A, Feb. 2025 RTEP, 30-Day Comment Period to be effective 1/1/2025.

Filed Date: 3/28/25.

Accession Number: 20250328-5267.

Comment Date: 5 p.m. ET 4/28/25.

Docket Numbers: ER25-1812-000.

Applicants: New York Independent System Operator, Inc.

Description: Compliance filing: NYISO Compliance: Order No. 904 to be effective 5/1/2026.

Filed Date: 3/28/25.

Accession Number: 20250328-5278.

Comment Date: 5 p.m. ET 4/18/25.

Docket Numbers: ER25-1813-000.

Applicants: PJM Interconnection, L.L.C.

Description: 205(d) Rate Filing: Proposal Revising RAA to Add Two New ELCC Classes to be effective 5/28/2025.

Filed Date: 3/28/25.

Accession Number: 20250328-5308.

Comment Date: 5 p.m. ET 4/18/25.

Docket Numbers: ER25-1814-000.

Applicants: Midcontinent Independent System Operator, Inc.

Description: Compliance filing: 2025-03-28_Compliance Pursuant to Compensation for Reactive Power to be effective 3/29/2025.

Filed Date: 3/28/25.

Accession Number: 20250328-5315.

Comment Date: 5 p.m. ET 4/18/25.

Docket Numbers: ER25-1815-000.

Applicants: Public Service Company of New Mexico.

Description: Compliance filing: Order No. 904 Compliance Filing to be effective 5/16/2025.

Filed Date: 3/28/25.

Accession Number: 20250328-5328.

Comment Date: 5 p.m. ET 4/18/25.

Docket Numbers: ER25-1816-000.

Applicants: Headwaters Wind Farm LLC.

Description: Initial Rate Filing: Shared Facilities Agreement and Request for Waivers to be effective 3/29/2025.

Filed Date: 3/28/25.

Accession Number: 20250328-5338.

Comment Date: 5 p.m. ET 4/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 28, 2025.
Debbie-Anne A. Reese,
Secretary.

[FR Doc. 2025-05773 Filed 4-3-25; 8:45 am]

BILLING CODE 6717-01-P